DEPARTMENT OF TRANSPORTATION

Federal Aviation Administration

14 CFR Part 97

[Docket No. 30206; Amdt. No. 2014]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AmcAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusions

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on October 13, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective November 2, 2000

Medford, OR, Rogue Valley Intl-Medford, ILS/DME RWY 14, Amdt 14, CANCELLED

Medford, OR, Rogue Valley International-Medford, ILS RWY 14, Orig

Scappoose, OR, Scappoose Industrial Airpark, LOC/DME RWY 15, Amdt 1

Dallas, TX, Dallas-Love Fields, ILS RWY 13L, Amdt 31

* * * Effective November 30, 2000

Gulf Shores, AL, Jack Edwards, RNAV RWY 9, Orig

Prattville, AL, Autauga County, RNAV RWY 9, Orig

Port Heiden, AK, Port Heiden, VOR/DME RWY 13, Amdt 1, CANCELLED

Orlando, FL, Orlando Sanford, ILS RWY 27R, Orig

Chicago/Aurora, IL, Aurora Muni, RNAV RWY 15, Orig

Chicago/Aurora, IL, Aurora Muni, RNAV RWY 33, Orig

Louisville, KY, Bowman Field, VOR OR GPS RWY 14, Amdt 9A, CANCELLED

Louisville, KY, Bowman Field, VOR RWY 32, Amdt 14A, CANCELLED

Alexandria, LA, Alexandria Intl, RNAV RWY 14, Orig

Hammond, LA, Hammond Muni, NDB OR GPS RWY 18, Amdt 2B

Hyannis, MA, Barnstable Muni-Boardman/Polando Field, RNAV RWY 24, Orig

Alexandria, MN, Chandler Field, ILS RWY 31, Orig

Alexandria, MN, Chandler Field, NDB RWY 31, Amdt 5

Olivia, MN, Olivia Regional, RNAV RWY 29, Orig

Picayune, MS, Picayune Muni, RNAV RWY 18, Orig

Picayune, MS, Picayune Muni, RNAV RWY 31, Orig

Picayune, MS, Picayune Muni, RNAV RWY 36, Orig

Malden, MO, Malden Muni, VOR/DME RNAV OR GPS RWY 13, Orig-A

Malden, MO, Malden Muni, VOR OR GPS RWY 31, Amdt 7B

Mexico, MO, Mexico Memorial, VOR/DME RWY 24, Amdt 1A

Mexico, MO, Mexico Memorial, GPS RWY 6, Orig-A

Mexico, MO, Mexico Memorial, GPS RWY 24, Orig-A

Perryville, MO, Perryville Muni, VOR/DME RNAV RWY 20, Amdt 3A

Perryville, MO, Perryville Muni, GPS RWY 2, Orig-A

Perryville, MO, Perryville Muni, GPS RWY 20, Orig-A

Popular Bluff, MO, Poplar Bluff Muni, GPS RWY 18, Orig-B

Sedalia, MO, Sedalia Memorial, GPS RWY 18, Orig-B

Sedalia, MO, Sedalia Memorial, GPS RWY 36, Orig-B

Sikeston, MO, Sikeston Memorial Muni, VOR RWY 20, Amdt 3C

Poplar, MT, Poplar, RNAV RWY 9, Orig

Poplar, MT, Poplar, RNAV RWY27, Orig

Montgomery, NY, Orange County, GPS RWY 3, Orig, CANCELLED

Montgomery, NY, Orange County, RNAV RWY 3, Orig

Montgomery, NY, Orange County, RNAV RWY 8, Orig

Montgomery, NY, Orange County, RNAV RWY 21, Orig

Montgomery, NY, Orange County, RNAV RWY 26, Orig

Concord, NC, Concord Regional, ILS RWY 20, Amdt 1

Sand Springs, OK, William R. Pogue Muni, VOR OR GPS-A, Amdt 2

Pottsville, PA, Schuylkill County/Joe Zerbey, RNAV RWY 11, Orig

Pottsville, PA, Schuylkill County/Joe Zerbey, RNAV RWY 29, Orig

Pottsville, PA, Schuylkill County/Joe Zerbey, VOR/DME RNAV RWY 29, Amdt 3, CANCELLED

Memphis, TN, Memphis Intl, RADAR-1, Amdt 39

Smithville, TN, Smithville Muni, RNAV RWY 24, Orig

Somerville, TN, Fayette County, NDB RWY 19, Amdt 1

Rockport, TX, Aransas CO, NDB RWY 14, Amdt 1

Sherman/Denison, TX, Grayson County, VOR/DME RNAV RWY 35R, Orig-B

Longview, TX, Gregg County, NDB RWY 13, Amdt 14B

Tyler, TX, Tyler Pounds Field, VOR/DME OR GPS RWY 4, Amdt 3C

Tyler, TX, Tyler Pounds Field, VOR/DME OR GPS RWY 22, Amdt 3C

Tyler, TX, Tyler Pounds Field, VOR RWY 31, Amdt 1C

Tyler, TX, Tyler Pounds Field, NDB OR GPS RWY 13, Amdt 17D

[FR Doc. 00-26950 Filed 10-19-00; 8:45 am]

BILLING CODE 4910-13-M